DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The supplemental plat was prepared to correct the incorrectly labeled acreage tables, as depicted on the plat accepted October 13, 2004, T. 13 N., R. 28 E., Boise Meridian, Idaho, Group Number 1128, accepted October 19, 2012.

The plat representing the dependent resurvey of portions of the south boundary, east boundary, and subdivisional lines, and the subdivision of sections 24, 27, and 35, Township 8 North, Range 3 East, Boise Meridian, Idaho, Group Number 1320, was accepted November 28, 2012.

The plat representing the dependent resurvey of portions of the south boundary and subdivisional lines, and the subdivision of sections 27, 28, and 34, Township 2 North, Range 36 East, Boise Meridian, Idaho, Group Number 1358, was accepted December 12, 2012.

Dated: December 21, 2012.
Stanley G. French,
Chief Cadastral Surveyor for Idaho.

[FR Doc. 2012-31402 Filed 12-28-12; 8:45 am]

BILLING CODE 4310-GG-P